DEPARTMENT OF DEFENSE

Office of the Secretary

[No. DoD-2007-OS-0016]

Submission for OMB Review; Comment Request

ACTION: Notice.

The Department of Defense has submitted to OMB for clearance, the following proposal for collection of information under the provisions of the Paperwork Reduction Act (44 U.S.C. Chapter 35).

DATES: Consideration will be given to all comments received by September 26, 2007.

Title, Form and OMB Number:Department of Defense Public and Community Service (PACS) Program; DD Forms 2581 and 2581-1; OMB Control Number 0704-0324.

Type of Request: Extension.

Number of Respondents: 414

Responses Per Respondent: 1.

Annual Responses: 414.

Average Burden Per Response: 14 minutes.

Annual Burden Hours: 97.

Needs and Uses: In accordance with 10 U.S.C. 1143a(c), the Public and Community Service (PACS) Registry provides registered PACS organizations with information regarding the availability of individuals with interest in working a PACS organization. The 800 phone resume request line associated with this information collection, as well as the DD Form 2581, “Operation Transition Employer Registration” and DD Form 2581-1, “Public and Community Service Organization Validation,” are used in support of the Department of Defense program for public service employment assistance.

Affected Public: Business or other for-profit, not-for-profit institutions, Federal government, state, local or tribal government.

Frequency: On occasion.

Respondent's Obligation: Required to obtain or retain benefits.

OMB Desk Officer: Ms. Hillary Jaffe.

Written comments and recommendations on the proposed information collection should be sent to Ms. Jaffe at the Office of Management and Budget, Desk Officer for DoD, Room 10236, New Executive Office Building, Washington, DC 20503.

You may also submit comments, identified by docket number and title, by the following method:

• Federal e-Rulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Ms. Patricia Toppings.

Written requests for copies of the information collection proposal should be sent to Ms. Toppings at WHS/ESD/Information Management Division, 1777 North Kent Street, RPN, Suite 11000, Arlington, VA 22209-2133.

Dated: August 21, 2007.
Patricia L. Toppings,
Alternate OSD Federal Register Liaison Officer, Department of Defense.

[FR Doc. 07-4173 Filed 8-24-07; 8:45 am]

BILLING CODE 5001-06-M